DEPARTMENT OF THE INTERIOR

National Park Service

National Register of Historic Places; Notification of Pending Nominations

Nominations for the following properties being considered for listing in the National Register were received by the National Park Service before September 16, 2000. Pursuant to section 60.13 of 36 CFR Part 60 written comments concerning the significance of these properties under the National Register criteria for evaluation may be forwarded to the National Register, National Park Service, 1849 C St. NW, NC400, Washington, DC 20240. Written comments should be submitted by October 11, 2000.

Carol D. Shull,
Keeper of the National Register.

COLORADO

Gunnison County

Rimrock School, (Rural School Buildings in Colorado MPS), Cty. Rd. 24, Sapinero, 00001195

Park County

Wahl Ranch, (Ranching Resources of South Park, Colorado), US 285 and Lost Park Rd., Jefferson, 00001194

FLORIDA

Hillsborough County

Old People's Home, 1203 E. 22nd Ave., Tampa, 00001198

Leon County

Smoky Hollow Historic District, Roughly bounded by E. Lafayette St., CSX RR tracks, Myers Park and Myers Park Ln., Tallahassee, 00001199

IOWA

Fayette County

Abraham Lincoln Statue and Park, Jct. of Mill and Stone, Clermont, 00001197,

Church of the Savior Episcopal Church and David Henderson Statue, Jct. of Mill and Thompson, Clermont, 00001196

LOUISIANA

Caddo Parish

Ogilvie Hardware Company Building, 217 Jones St., Shrevport, 00001210

MAINE

Lincoln County

Dresden Town House, 391 Middle Rd., Dresden Mills, 00001204

Oxford County

McLaughlin House and Garden, 97 Main St., South Paris, 00001202,

Upton Grange No. 404 (Former), Jct. of ME 26 and Mill Rd., Upton, 00001206

Piscataquis County

Free Will Baptist Church (Former), Jct. of High St. and Highland Ave., Milo, 00001205

Washington County

Main St. at jct. with Church Hill Circle, Columbia Falls, Columbia Falls, 00001203

MARYLAND

Caroline County

Memory Lane, 24700 Williston Rd., Denton, 00001200

MASSACHUSETTS

Worcester County

Wickaboag Valley Historic District, Roughly bounded by Wickaboag Pond, Mill Stone Rd., Madden Rd., and New Braintree Border, West Brookfield, 00001201

N. MARIANA ISLANDS

Saipan Municipality

Laulau Kattan Latte Site, Address Restricted, Kagman III Homestead, 00001212

NEVADA

Washoe County

Whittell Estate, 5000 NV 28, Incline Village, 00001207

NEW YORK

Suffolk County

Shinnecock Hills Golf Club, Bet. Cty Rd. and Sebonac Rd., Southampton, 00001211

NORTH CAROLINA

Forsyth County

Snyder, John Wesley, House, 2715 Old Salisbury Rd., Winston-Salem, 00001209

Surry County

Renfro Mill, Jct. of Willow and Oak Sts., Mount Airy, 00001208

SOUTH DAKOTA

Clark County

Bradley First Lutheran Church, 3 mi. SW of Bradley, Bradley, 00001213

Hamlin County

Hamlin County Courthouse, (County Courthouses of South Dakota MPS) 300 4th St., Hayti, 00001225

Hughes County

Upper Pierre Street Commercial Historic District, Roughly bounded by E. Capitol Ave. and S. Pierre St., Pierre, 00001215

Lake County

Lake Madison Lutheran Church, 5.5 mi. SE of Madison, Madison, 00001220

Minnehaha County

DeLong, Harrison, House, 621 S. Main, Sioux Falls, 00001221

Dell Rapids Residential Historic District, Roughly bounded by Orleans Ave., 4th St., and 7th St., Dell Rapids, 00001224

Williams Piano Company House, 1019 S. Norton, Sioux Falls, 00001223

Moody County

Crystal Theatre, 215 E. Second Ave., Flandreau, 00001214

Spink County

Bruell, William F., House, Address Restricted, Redfield, 00001222

Turner County

Centerville Township Bridge Number S-18, (Stone Arch Culverts in Turner County, South Dakota MPS) 294th St., Centerville, 00001216

Childstown Township Bridge Number S-15 (Stone Arch Culverts in Turner County, South Dakota MPS) 282nd St., Childstown, 00001217

Germantown Township Bridge S-29 (Stone Arch Culverts in Turner County, South Dakota MPS) 278th St., Germantown, 00001219

Salem Township Bridge Number E-1 (Stone Arch Culverts in Turner County, South Dakota MPS) 446th St., Salem, 00001218

WYOMING

Albany County

Flying Horseshoe Ranch, 156 Dinwiddie Rd., Centennial, 00001226

A Request for REMOVAL has been made for the following resources:

NEVADA

Carson City (Independent City)

Virginia and Truckee Railroad Shops, Stewart & Plaza Sts., Carson City, 77001508

Clark County

Las Vegas Hospital, 201 N. 8th St., Las Vegas, 87001340

Whitehead, Stephen R., House, 333 N. 7th St., Las Vegas, 87001341

Humboldt County

Nixon Opera House, Winnemucca Blvd. and Melarky St., Winnemucca, 83001110

Nye County

Smith, J.E., Stone Duplex, 415 Florence, Tonopah, 82003245

Washoe County

Bell Telephone Building, (Architecture of Fredrick J. Delonchamps TR), 100 N. Center St., Reno, 86002260

Mapes Hotel and Casino, 10 N. Virginia St., Reno 84002081

Odd Fellows Building, 133 N. Sierra St., Reno, 78001730

Riverside Mill Company Flour Mill, 345 E. 2nd St., Reno, 82003239

[FR Doc. 00-24697 Filed 9-25-00; 8:45 am]

BILLING CODE 4310-70-P